DEPARTMENT OF JUSTICE

Antitrust Division

Notice Pursuant to the National Cooperative Research and Production Act of 1993—1EdTech Consortium, Inc.

Notice is hereby given that, on July 16, 2024, pursuant to section 6(a) of the National Cooperative Research and Production Act of 1993, 15 U.S.C. 4301 et seq. (“the Act”), 1EdTech Consortium, Inc. (“1EdTech Consortium”) has filed written notifications simultaneously with the Attorney General and the Federal Trade Commission disclosing changes in its membership. The notifications were filed for the purpose of extending the Act's provisions limiting the recovery of antitrust plaintiffs to actual damages under specified circumstances.

Specifically, Alabama Institute for Deaf and Blind, East Talladega, AL; Education Assessment System, Arlington, VA; University of Georgia, Athens, GA; School Harbor, Phoenix, AZ; Ivy Tech Community College, Indianapolis, IN; MyEducator LLC, Orem, UT; Mountain Brook Schools, Mountain Brook, AL; Uinta County School District #1, Evanston, WY; St. Charles CUSD 303, St. Charles, IL; Swedish National Agency for Education (Statens skolverk), Stockholm, SWEDEN; Massachusetts Institute of Technology, Cambridge, MA; and Vestavia Hills City Schools, Vestavia Hills, AL, have been added as parties to this venture.

Also, Washington State Community and Technical Colleges System, Olympia, WA; Pearl, Richmond, VA; New Hanover County Schools, Wilmington, NC; and Edge Factor Inc., Ontario, CANADA, have withdrawn as parties to this venture.

No other changes have been made in either the membership or planned activity of the group research project. Membership in this group research project remains open, and 1EdTech Consortium intends to file additional written notifications disclosing all changes in membership.

On April 7, 2000, 1EdTech Consortium filed its original notification pursuant to section 6(a) of the Act. The Department of Justice published a notice in the Federal Register pursuant to section 6(b) of the Act on September 13, 2000 (65 FR 55283).

The last notification was filed with the Department on April 29, 2024. A notice was published in the Federal Register pursuant to section 6(b) of the Act on June 21, 2024 (89 FR 52089).

Suzanne Morris,
Deputy Director Civil Enforcement Operations, Antitrust Division.

[FR Doc. 2024-30406 Filed 12-19-24; 8:45 am]

BILLING CODE P